DEPARTMENT OF COMMERCE

National Oceanic and Atmospheric Administration

50 CFR Part 660

[Docket No. 251118-0171]

RIN 0648-BN15

Magnuson-Stevens Act Provisions; Fisheries off West Coast States; Pacific Coast Groundfish Fishery; Pacific Coast Groundfish Fishery Management Plan; Amendment 34; Groundfish Exclusion Area for Coral Research and Restoration

AGENCY: National Marine Fisheries Service (NMFS), National Oceanic and Atmospheric Administration (NOAA), Commerce.

ACTION: Final rule.

SUMMARY: This final rule implements regulations for amendment 34 to the Pacific Coast Groundfish Fishery Management Plan (Groundfish FMP). The regulations include a closure to commercial groundfish bottom contact gear in Monterey Bay National Marine Sanctuary (MBNMS). Specifically, NMFS is implementing a new groundfish exclusion area (GEA) for the purposes of coral research and restoration within MBNMS at the site of Sur Ridge. This action closes the Sur Ridge site within the MBNMS off California to commercial groundfish bottom contact gear in order to protect future deep-sea coral research and restoration projects from the impact of fishing gear. The Office of National Marine Sanctuaries (ONMS) conducts scientific research in National Marine Sanctuaries, including on deep sea coral survival, growth and reproduction, under the National Marine Sanctuaries Act (NMSA) and the Magnuson-Stevens Fishery Conservation and Management Act (Magnuson-Stevens Act).

DATES: Effective January 12, 2026.

ADDRESSES: Information relevant to amendment 34, which includes an analysis that addresses Presidential Executive Order 12866, the Regulatory Flexibility Act (RFA), and the statutory requirements of the Magnuson-Stevens Act (the Analysis), may be obtained from the NMFS West Coast Region website at: https://www.fisheries.noaa.gov/region/west-coast.

FOR FURTHER INFORMATION CONTACT: Megan Mackey, 206-526-6140, megan.mackey@noaa.gov.

SUPPLEMENTARY INFORMATION: The Pacific Coast groundfish fishery in the U.S. exclusive economic zone (EEZ) seaward of Washington, Oregon, and California is managed under the Groundfish FMP. The Pacific Fishery Management Council (Council) developed the Groundfish FMP pursuant to the Magnuson-Stevens Act (16 U.S.C. 1801 et seq.). The Secretary of Commerce approved the Groundfish FMP and implemented the provisions of the plan at 50 CFR part 660, subparts C through G. Species managed under the Groundfish FMP include more than 90 species of groundfish, flatfish, rockfish, sharks, and skates.

This final rule implements regulations for amendment 34 to the Groundfish FMP. Consistent with section 303(c)(1) of the Magnuson-Stevens Act, the Council deemed the regulations consistent with and necessary to implement amendment 34 in an October 1, 2024 letter from the Council Executive Director to the Regional Administrator. The notice of availability for amendment 34, which describes the specific changes being made to the Groundfish FMP, was published on October 9, 2024 (89 FR 81878) and was open for public comment through December 8, 2024. The proposed rule for amendment 34, which includes the regulations necessary for implementing amendment 34, was published on October 23, 2024 (89 FR 84511), and was open for public comment through November 22, 2024.

Background

The Council met throughout 2023 and 2024 to consider developing fisheries closures for deep-sea coral restoration and research in response to a request from the ONMS. ONMS conducts scientific research in National Marine Sanctuaries, including within MBNMS, under the NMSA and the Magnuson-Stevens Act.

In September 2023, ONMS presented a scoping paper that posed 5 locations with 10 sites within Greater Farallones National Marine Sanctuary (GFNMS) and MBNMS for deep sea coral restoration and research (section 1.2 of the Analysis). At that meeting, the Council chose to continue to scope closures in MBNMS only, at the locations of Año Nuevo and Ascension Canyons (two sites) and Sur Ridge (one site), for areas to conduct coral research and restoration. The Council proposed that these areas could be closed to bottom contact gears as GEAs. GEAs were established by amendment 32 to the Groundfish FMP (88 FR 83830, December 1, 2023) and are a management tool intended to mitigate the impacts to sensitive environments from certain groundfish fishing activity.

At the June 2024 meeting, the Council adopted its final preferred alternative to develop one GEA for commercial groundfish bottom contact gear at Sur Ridge in MBNMS. It is anticipated that ONMS may begin deep-sea coral outplanting at Sur Ridge in 2026.

The GEA at Sur Ridge applies to commercial groundfish vessels using bottom contact gear. Currently, the GEA area is within a bottom trawl essential fish habitat conservation area (EFHCA), and therefore no bottom trawling is permitted. If the EFHCA were to be removed in the future, the GEA will continue to prohibit bottom trawl. The GEA creates new restrictions for non-trawl commercial groundfish vessels using bottom contact gears in the limited entry fixed gear, directed open access, and shore-based individual fishing quota sectors. Vessels using non-bottom contact gear will still be permitted to operate in the area. The GEA will close 36.64 square nautical miles of area, with depths ranging from 2,690 to 5,118 feet (448 to 853 fathoms (fm) (4,919 meters (m)). Overall, this GEA allows ONMS to perform deep-sea coral research and restoration while having limited impact on the groundfish fisheries.

Amendment 34

NMFS is implementing amendment 34 to the Groundfish FMP in alignment with the Council's recommendation in June 2024. Amendment 34 revises the description of GEAs in the Groundfish FMP to remove references to specific GEAs, consistent with how other closed area types are included in the Groundfish FMP. Active GEAs are currently listed in the FMP. With this amendment, active GEAs will instead be noted in the Federal groundfish regulations at § 660.70, and the history of a specific GEA will likely be provided in the groundfish Stock Assessment Fishery Evaluation document.

Revisions to GEAs

In addition to revising the description of GEAs under amendment 34, in alignment with the Council's recommendation, NMFS is revising regulations to modify the use of GEAs as a management tool in the following ways. This final rule will:

• Add GEAs to the general groundfish prohibitions found at § 660.12;

• Revise the descriptions of GEAs found in §§ 660.230, 660.330, and 660.360 to remove the specific references to the Southern California Bight; and,

• Establish a new GEA at Sur Ridge in MBNMS.

This final rule will add GEAs to the general groundfish prohibitions found in regulations by adding § 660.12(a)(23) to the list of prohibitions in § 660.12(a). This will clarify that it is unlawful for fishermen to violate any regulations that apply to activity in GEAs. This final rule will also revise the descriptions of GEAs in the regulations by updating §§ 660.230, 660.330, and 660.360 to remove specific references to the Southern California Bight and to generalize the GEA descriptions to allow for GEAs to be located more broadly. This final rule will also update the GEA description at § 660.70(t) to note that there will be a total of nine GEAs and to remove the specific reference to GEAs being areas south of Point Conception, California. Finally, this final rule will add § 660.70(t)(9) to the list of GEAs found in that section and will include the latitude and longitude coordinates and other information relevant to establishing the Sur Ridge GEA.

Expected Effects of This Action

The Council prepared a detailed Analysis (see ADDRESSES) that analyzed the effects of amendment 34 on various resources. A brief summary of expected effects from the Analysis is provided below and is also included in the proposed rule (89 FR 84511, October 23, 2024).

All commercial groundfish participants that use bottom contact gear for fisheries in the EEZ off Washington, Oregon, and California, which are managed under the Groundfish FMP, may be affected by this final rule. Bottom contact gear is defined at 50 CFR 660.11: “fishing gear designed or modified to make contact with the bottom. This includes, but is not limited to, beam trawl, bottom trawl, dredge, fixed gear, set net, demersal seine, dinglebar gear, and other gear (including experimental gear) designed or modified to make contact with the bottom. Gear used to harvest bottom dwelling organisms (e.g., by hand, rakes, and knives) are also considered bottom contact gear for purposes of this subpart.”

This list is non-exhaustive. The coral research and restoration area is within existing bottom trawl EFHCAs, which prohibit all bottom trawl gears from operating within those EFHCA boundaries. Given that these areas are currently closed to bottom trawl vessels, this action will establish no new impact to those vessels. Therefore, the action will impact only fishing with non-trawl bottom contact gear types within the GEA at Sur Ridge. The commercial gears that will be permitted to operate within the newly closed area are midwater trawl and select non-trawl gear types (troll gear and commercial vertical hook-and-line gear not anchored to the bottom, such as vertical jig gear or rod-and-reel gear with weights suspended off the bottom).

From 2019 to 2023, there were 429 distinct vessels that utilized non-trawl bottom contact gears ¹ in the 3 commercial groundfish sectors (directed open access (OA), limited entry fixed gear (LEFG), and individual fishing quota (IFQ) gear switching) with an annual average of 175 vessels operating annually (table 1) between the latitudes of 40°30′ N and 36° N. As described in section 3.5.2 of the Analysis, this is the catch area that encompassed the three coral restoration and research areas proposed within MBNMS in late 2023. The Council ultimately only recommended one offshore area to move forward as a GEA. Therefore, the estimated values here are expected to reflect the maximum number of vessels that could potentially be affected by this action. The actual number is likely lower. The majority of affected vessels would participate in the directed OA fishery. To protect the confidentiality of vessel data, IFQ gear switching vessels were combined with LEFG vessels in table 1.

¹ Vessels were selected based on FOS_Groundfish_Sector_Codes of “Catch Shares”, “LE Fixed Gear Daily Trip Limit”, “Limited entry Sablefish”, and “OA Fixed Gear” and were not declared (using declaration code) associated with non-bottom contact gears.

Table 1—Range of Vessels by Fishery Sector
[2019-2023]
Fishery sector | Range | Average
OA | 130-172 | 149
LEFG/IFQ | 24-29 | 26

For purposes of this action, directed OA vessels are assumed to be small entities, with ex-vessel revenues for all landings (groundfish and non-groundfish) averaging $71,959. In 2023, 26 of the 29 LEFG permits associated with vessels that would likely be subject to this action (i.e., required to fish in the primary or LE trip limit fisheries) were owned by small entities (self-reported). For gear switching vessels likely to be affected by this action, all were reported as small entities in 2023.

Note that there is not a strict one-to-one correlation between vessels and entities, nor between permits and entities; therefore, some persons or firms likely have ownership interests in more than one vessel or permit. Therefore, the actual number of entities regulated by this final action may be lower than the estimates presented here.

If the area to be closed is key to the affected parties' fishing, and if there are limited replacement fishing opportunities available, the economic impact of the action may disproportionately affect small entities compared to large entities and may result in some profit loss. Given other likely current and future fishing restrictions impacting the relevant catch area (e.g., nearshore restrictions north of the area and limited or non-existent salmon seasons), offshore opportunities are likely to be of greater importance in the portfolios of California fishing vessels. However, given the limited documented historical fishing activity at Sur Ridge and the depth of the closure, it is likely that a limited subset of vessels might be impacted. Additionally, these vessels could potentially move to other fishing areas to maintain similar harvest opportunities.

Public Comments

The notice of availability for amendment 34 was published on October 9, 2024 (89 FR 81878), and was open for public comment until December 8, 2024. The proposed rule for amendment 34 was published on October 23, 2024 (89 FR 84511), and was open for public comment until November 22, 2024. NMFS received a total of nine public comment submissions. Seven of these nine submissions are discrete comment letters from individuals or organizations. Two of these nine submissions, from the Center for Biological Diversity (CBD), a nonprofit membership organization, included two attachments. The first attachment submitted had 9,177 comments from CBD's supporters, and the second attachment submitted included 342 additional comments from CBD's supporters, thereby bringing the total number of public comments to 9,526 after adding the additional seven discrete comment letters. The comments from CBD's supporters are largely form responses, reiterating a script provided by CBD. Specifically, these form responses support the development of the GEA prohibiting commercial groundfish bottom contact gear at Sur Ridge, in MBNMS, but also ask the agency to protect additional areas (i.e., Año Nuevo and Ascension Canyons) in MBNMS for coral research and restoration. NMFS also reviewed the CBD submissions for unique comments, including themes, not captured in the form responses.

To address both the volume of comments from CBD members and the individual comments on this action, in addition to responding to individual comments below, NMFS has identified themes raised in the form submissions on which to focus our response. Overall, the comments generally expressed support for the action. NMFS appreciates the thoughtful comments and has considered them thoroughly.

Comments 1 & 2: Two commenters expressed general support for this action.

Response: Your support for this action is noted.

Comment 3: One commenter discussed farming activity causing harm to western shorelines in Florida.

Response: This comment is outside the scope of this action.

Comment 4: One commenter expressed support for this action and requested information on whether areas adjacent to the Sur Ridge GEA would be open to bottom contact gear, whether the Sur Ridge area would be re-opened to bottom contact gear after completion of coral restoration, and on the potential economic impacts of the Sur Ridge GEA to small businesses.

Response: This action only addresses the fishing restrictions established by the GEA at the area of Sur Ridge and not adjacent areas. The GEA at Sur Ridge applies to commercial groundfish vessels using bottom contact gear. Currently, the GEA is within a bottom trawl EFHCA, and therefore no bottom trawling is permitted. If the EFHCA were to be removed in the future, the GEA would continue to prohibit bottom trawling. This GEA creates new restrictions for non-trawl commercial groundfish vessels using bottom contact gears in the limited entry fixed gear, directed open access, and shore-based individual fishing quota sectors. Vessels using non-bottom contact gear will still be permitted to operate in the area. The Council has requested periodic updates from the ONMS on future coral restoration projects in the Sur Ridge GEA, and, similar to all groundfish fishery regulations, the Council and NMFS may re-evaluate this new GEA based on new information in the future.

It was determined at the proposed rule stage that this action would not have a significant adverse economic impact on a substantial number of small entities and this determination remains unchanged. NMFS determined that this action would apply to the entirety of all entities fishing with bottom contact gear within the GEA and the majority of those entities are considered small entities for RFA purposes (5 U.S.C. 601 et seq.). However, this action is expected to have a limited impact on a modest number of small entities because there has been limited documented fishing activity in the Sur Ridge area and because bottom trawl gear is currently prohibited within the new GEA under the EFHCA. The factual basis for this analysis has not changed and, as a result, the final rule will not have a significant economic impact on a substantial number of small entities. A more in-depth analysis on the potential impacts to small businesses is contained in the proposed rule (89 FR 84511) and in the Analysis.

Comment 5: Oceana expressed support for this action, but also expressed concern that the decision to choose only one location in the MBNMS as a GEA, instead of including the additional areas in both the MBNMS and the GFNMS under consideration during the Council process, would limit the functionality and success of ONMS's research and restoration program. The commenter also suggested that the areas in the GFNMS originally proposed by ONMS should have had further consideration through the action development process. Finally, the commenter indicated its support for fishing closures in additional areas, including in GFNMS and Año Nuevo and Ascension canyons in MBNMS.

Response: This action closes the area within the Sur Ridge GEA to commercial groundfish bottom contact gear in order to protect future deep sea coral research and restoration projects from the impacts of fishing gear. Neither the specifics of those future coral research and restoration projects themselves nor their consistency with, or ability to promote the success of, ONMS's larger research and restoration program are within the scope of this action. As described in the proposed rule, NMFS is implementing this rule pursuant to sections 303(c) and 304(b)(1) of the Magnuson-Stevens Act. Consistent with section 303(c), the Council determined that the proposed regulations are necessary to implement amendment 34 and submitted their proposed regulations to NMFS on October 1, 2024. Under section 304(b)(1)(A), NMFS reviews regulations proposed by the Council “to determine whether they are consistent with the fishery management plan, plan amendment, [the statute] and other applicable law.” If NMFS finds in the affirmative, NMFS publishes proposed regulations in the Federal Register, and, as outlined in section 304(b)(3), after a public comment period, publishes final regulations.

As described in the proposed rule, at the September 2023 Council meeting, the ONMS proposed 5 locations with 10 sites within GFNMS and MBNMS for Council consideration for potential fishing closures. At that same meeting, the Council chose to scope three of these areas, all within MBNMS. Areas proposed in the GFNMS were not included in the range of alternatives that went forward for public review during the Council process. At its June 2024 meeting, the Council selected its final preferred alternative of establishing a GEA in Sur Ridge for purposes of deep sea coral restoration and research. Additional closure areas under consideration, including Año Nuevo Canyon and Ascension Canyon, were ultimately not included in the Council's final preferred alternative following public engagement, including multiple opportunities for comment at Council meetings in 2023 and 2024. The Council's final preferred alternative reflects its intent to balance the purpose of coral research and restoration against the potential impacts from closures to commercial fisheries. An in-depth analysis of the Council's considerations is available in the Analysis (see ADDRESSES). The Council's decision to recommend proceeding with the Sur Ridge closure alone limits this action's impacts on commercial groundfish fisheries, while also creating a GEA in which ONMS can conduct future coral research and restoration. NMFS agrees with the Council's recommendation. As described in the proposed rule, NMFS made an affirmative determination that the Council's proposed regulations are consistent with the national standards, the Groundfish FMP, the other provisions of the Magnuson-Stevens Act, and other applicable law; therefore, consistent with section 304(b), NMFS has adopted the proposed regulations to implement amendment 34.

Comment 6: The National Ocean Protection Coalition expressed support for this action and asked that the Council also consider further protections through additional closures in areas recommended by ONMS to protect deep sea coral from bottom contact gear. The commenter requested that the Council provide a scientific and ecological justification as to why additional closure areas were not also considered and justification as to why amendment 34 is not in accordance with MBNMS's science needs assessment.

Response: NMFS notes that this comment letter was addressed to the Council and specifically made requests for future action for the Council to consider. Council meetings include opportunities for public comment on actions being considered by the Council and, throughout the Council process, there were multiple opportunities for public comment on this action. NMFS emphasizes that although the Council process informs its decisions on which regulations to implement, that NMFS, not the Council, makes the final decision on the substance of its regulations. Although this comment letter was not addressed to NMFS, given that it was submitted on the proposed rule, NMFS is responding to the substance of the letter as it relates to the proposed rule, although some of the commenter's requests are beyond the scope of this action. Given the overlap of this comment with comment 5, NMFS incorporates its response to comment 5.

The Council's final preferred alternative of creating a GEA at Sur Ridge reflects its careful consideration of the intent to balance the request from ONMS for new fishing area closures for coral research and restoration (including the potential scientific and ecological benefits) against the need to mitigate likely adverse impacts on the fishing industry, small businesses, and fishing communities from the potential loss of currently utilized fishing areas.

Neither the specifics of future coral research and restoration in MBNMS nor their consistency with MBNMS's science needs assessment are within the scope of this action. ONMS's Science Needs Assessment is an evaluation of the science and information required to address the conservation issues facing each sanctuary in the national marine sanctuary system, which is designed to support ONMS's science and management staff working to address information gaps and to communicate science needs to potential partners, interested organizations, and individuals to direct investments towards priority needs and opportunities. The MBNMS's science needs assessment was not developed in correlation with this action and is outside the scope of this rulemaking. NMFS determined the Council's proposed regulations were consistent with the national standards, the Groundfish FMP, the other provisions of the Magnuson-Stevens Act, and other applicable law.

Comment 7: The Center for Biological Diversity asserted that NMFS should implement GEAs at all 10 sites, or at a minimum three sites, contending that the available scientific evidence indicates that the 10 sites require fishing restrictions to support coral research and restoration. The commenter further asserts that NMFS violated the National Environmental Policy Act (NEPA) by failing to analyze the environmental impacts of not designating all 10 sites originally presented by ONMS for scoping as GEAs. Finally, the commenter asserted that NMFS improperly deferred to the Council by “advanc[ing] only three out of 10 sites to the rulemaking process” and failed to justify in the Federal Register the change in agency position.

Response: Given the overlap with comment 5 above, NMFS incorporates its response to comment 5. As described in the response to comment 5, NMFS reviewed the Council's proposals and determined that the Council's final preferred alternative for this action is consistent with the national standards, the Groundfish FMP, other provisions of the Magnuson-Stevens Act, and other applicable law. Accordingly, consistent with the Magnuson-Stevens Act, NMFS adopted the Council's final preferred alternative.

The Council developed its range of alternatives and final preferred alternative through the standard process established by the Magnuson-Stevens Act, with the preferred alternative reflecting the intent to balance ONMS's request for new fishing area closures for coral research and restoration (including the potential scientific and ecological benefits) against the need to mitigate likely adverse impacts on the fishing industry, small businesses, and fishing communities from the potential loss of currently utilized fishing areas. NMFS has reviewed these findings and agrees with the Council's recommendation of the final preferred alternative.

With respect to NEPA, NMFS determined that the proposed action falls within one of the NOAA Categorical Exclusion categories listed in Appendix F of the Companion Manual for NOAA Administrative Order 216-6A; specifically, CE category A1: “An action that is a technical correction or a change to a fishery management action or regulation, which does not result in a substantial change in any of the following: fishing location, timing, effort, authorized gear types, or harvest levels.” Given the relatively small area of 36.64 sq. nm that the Sur Ridge GEA closes to bottom contact gear, NMFS concludes that the new GEA will have limited impact to the groundfish fisheries and is not likely to result in a substantial change in fishing location, timing, effort, authorized gear types, or harvest levels, especially since the area is already closed to bottom trawling.

Finally, NMFS disagrees that there has been a change in agency position. When presenting its proposal at the November 2023 Council meeting, ONMS stated: “ONMS developed this document that provides the basis for scoping should the Council take the opportunity to prepare draft regulations under the [Magnuson-Stevens Act] for fishing, as deemed necessary. This scope of action provides 10 areas total within five larger locations for the Council to consider as they address the request to provide protected areas for [deep sea coral] research and restoration” (Agenda Item H.2.a ONMS Report 1, available at https://www.pcouncil.org/documents/2023/08/h-2-a-onms-report-1-scoping-document.pdf). The Council considered this proposal, selected a range of three alternatives, and ultimately selected one site as its final preferred alternative to recommend to NMFS. NMFS then made the determination that the Council's proposed regulations are consistent with the national standards, the Groundfish FMP, other provisions of the Magnuson-Stevens Act, and other applicable law.

Form Letter Comments, Theme 1: NMFS has an opportunity and an obligation to set aside Año Nuevo and Ascension Canyons as GEAs, in addition to Sur Ridge, in order to mitigate human impacts in the national marine sanctuaries. This theme was included in nearly all of the form letter comments.

Response: This action closes the area within the Sur Ridge GEA to commercial groundfish bottom contact gear in order to protect future deep sea coral research and restoration projects from the impacts of fishing gear. The mitigation of adverse human impacts to deep sea coral ecosystems in the national marine sanctuaries—whether required, elective, or stemming from specific incidents or general activity—is outside of the scope of this action. NMFS incorporates its response to comment letter 5 above. While multiple areas for potential GEAs were considered during the Council's process, the Council included only a GEA in Sur Ridge as its final preferred alternative. NMFS found the Council's proposed regulations consistent with the national standards, the Groundfish FMP, the other provisions of the Magnuson-Stevens Act, and other applicable law.

Form Letter Comments, Theme 2: NMFS should ban destructive fishing gear, like heavy traps, from the sites of Año Nuevo Canyon, Ascension Canyon, and Sur Ridge to prevent habitat degradation and coral loss. This theme was included in nearly all of the form letter comments.

Response: This action closes the area within the Sur Ridge GEA to commercial groundfish bottom contact gear in order to protect future deep sea coral research and restoration projects from the impacts of fishing gear. The Sur Ridge GEA will prohibit all commercial groundfish bottom contact gear, including pot (trap) gear, in federally-managed fisheries. The authorization of and/or gear restrictions within state-managed fisheries and other federal fisheries are outside the scope of this action. This action does not include opening any new areas within the national marine sanctuaries to fishing or to allow fishing in sanctuary areas with new gear types; therefore, evaluating the potential impacts of fishing gear on sanctuary resources is beyond the scope of the proposed action.

Form Letter Comments, Theme 3: By designating only one area as a GEA and not including the additional areas of Año Nuevo Canyon and Ascension Canyon, NMFS is caving to industry pressure. This theme was included in a handful of the form letter comments.

Response: While multiple areas for potential GEAs within national marine sanctuaries were considered during the Council's process, the Council only included a GEA in Sur Ridge as its final preferred alternative. The Council recommended closing one area, the largest under consideration, after careful consideration of balancing the request from ONMS for new fishing area closures for deep sea coral research and restoration against the need to mitigate likely adverse impacts on the fishing industry, small businesses, and fishing communities, from the potential loss of currently utilized fishing areas. Balancing such considerations is an appropriate aspect of the NMFS's and the Council's roles under the Magnuson-Stevens Act as the decisionmaker and advisor, respectively, for regulations promulgated under the Magnuson-Stevens Act. Additionally, NMFS notes that other fishery closures already exist in the national marine sanctuaries on the U.S. West Coast and that these closed areas may be suitable for future consideration for deep sea coral research and restoration work, without requiring additional fishery closure actions.

Changes From the Proposed Rule

NMFS has identified minor technical corrections in the draft regulations for implementing amendment 34. These corrections are needed to incorporate regulatory updates from the final rule implementing amendment 33 to the Groundfish FMP (89 FR 101514, December 16, 2024). These corrections are addressed in the final regulations below.

No changes were made to the final rule in response to public comments on the proposed rule.

Classification

Pursuant to sections 303(c) and 304(b)(1)(A) of the Magnuson-Stevens Act, the NMFS Assistant Administrator has determined that this final rule to implement amendment 34 is consistent with the FMP, other provisions of the Magnuson-Stevens Act, and other applicable law.

This final rule has been determined to be not significant for purposes of Executive Order (E.O.) 12866.

This final rule is not an E.O. 14192 regulatory action because this action is not significant under E.O. 12866.

There are no relevant Federal rules that may duplicate, overlap, or conflict with this action.

This action would not have a substantial direct effect on one or more Indian Tribes, on the relationship between the Federal Government and Indian Tribes, or on the distribution of power and responsibilities between the Federal Government and Indian Tribes; therefore, consultation with Tribal officials under E.O. 13175 is not required, and the requirements of section (5)(b) and (5)(c) of E.O. 13175 also do not apply. A Tribal summary impact statement under section (5)(b)(2)(B) and section (5)(c)(2)(B) of E.O. 13175 is not required and has not been prepared.

The Chief Counsel for Regulation, Department of Commerce, certified to the Chief Counsel for Advocacy of the Small Business Administration during the proposed rule stage that this action will not have a significant economic impact on a substantial number of small entities. The factual basis for the certification was published in the proposed rule and is not repeated here. No comments were received regarding this certification, although NMFS received one non-specific comment about the economic impacts of the rule. This comment did not change the factual basis for this certification and a response to the comment is included in the Comments and Responses section of this final rule. As a result, a regulatory flexibility analysis was not required and none was prepared.

This final rule contains no new information collection requirements under the Paperwork Reduction Act of 1995.

List of Subjects in 50 CFR Part 660

Fisheries, Fishing, Reporting and recordkeeping requirements.

Dated: November 18, 2025.
Samuel D. Rauch III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. Amend § 660.12 by adding paragraph (a)(23) to read as follows:

§ 660.12 General groundfish prohibitions.

* * * * *

(a) * * *

(23) Fish for, take and retain, possess (except for the purpose of continuous transit), or land any species of groundfish in the GEAs as defined at § 660.11 with coordinates defined at § 660.70.

* * * * *

3. Amend § 660.70 by revising the introductory text of paragraph (t) and adding paragraph (t)(9) to read as follows:

§ 660.70 Groundfish conservation areas.

* * * * *

(t) Groundfish Exclusion Areas. The Groundfish Exclusion Areas (GEAs) include nine areas off the coast of California intended to protect sensitive areas, including areas with coral and sea pens. GEAs are closed to both commercial and recreational groundfish fisheries unless otherwise noted.

* * * * *

(9) Sur Ridge. The Sur Ridge GEA is closed to commercial groundfish bottom contact gear only and is defined by straight lines connecting the following specific latitude and longitude coordinates in the order listed and connecting back to 36°26.00′ N lat., 122°20.81′ W long:

(i) 36°26.00′ N lat., 122°20.81′ W long.;

(ii) 36°25.55′ N lat., 122°15.23′ W long.;

(iii) 36°21.71′ N lat., 122°15.32′ W long.;

(iv) 36°17.95′ N lat., 122°17.13′ W long.;

(v) 36°16.42′ N lat., 122°16.69′ W long.; and

(vi) 36°16.41′ N lat., 122°20.76′ W long.

* * * * *

4. Amend § 660.230 by revising paragraphs (a) and (d)(16) to read as follows:

§ 660.230 Fixed gear fishery—management measures.

(a) General. Most species taken in limited entry fixed gear (longline and pot/trap) fisheries will be managed with cumulative trip limits (see trip limits in tables 2b (North) and 2b (South) of this subpart), size limits (see § 660.60(h)(5)), seasons (see trip limits in tables 2a (North), 2b (North), 2a (South), and 2b (South) of this subpart and sablefish primary season details in § 660.231), gear restrictions (see paragraph (b) of this section), and closed areas (see paragraph (d) of this section and §§ 660.70 through 660.79). Cowcod, yelloweye, and California quillback rockfish retention is prohibited in all fisheries, and groundfish vessels must adhere to GEA restrictions (see paragraph (d)(16) of this section and § 660.70). Regulations governing tier limits for the limited entry fixed gear sablefish primary season north of 36° N lat. are found in § 660.231. Vessels not participating in the sablefish primary season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see paragraph (e) of this section. The trip limits in tables 2b (North) and 2b (South) of this subpart apply to vessels participating in the limited entry groundfish fixed gear fishery and may not be exceeded.

* * * * *

(d) * * *

(16) Groundfish exclusion areas (GEAs). GEAs are closed areas defined by specific latitude and longitude coordinates (specified at § 660.70) where recreational and/or commercial fishing for groundfish is prohibited unless otherwise noted at § 660.70(t). It is unlawful to fish for, take and retain, possess (except for the purpose of continuous transit) or land groundfish within the GEAs unless otherwise specified at § 660.70(t). All prohibited fishing gear for targeting groundfish, as specified at § 660.70(t), must be stowed while transiting through a GEA. If fishing for non-groundfish species within a GEA, where all groundfish fishing is prohibited, then no groundfish may be on board the vessel.

* * * * *

5. Amend § 660.330 by revising paragraphs (a) and (d)(18) to read as follows:

§ 660.330 Open access fishery—management measures.

(a) General. Groundfish species taken in open access fisheries will be managed with cumulative trip limits (see trip limits in tables 3b (North) and 3b (South) of this subpart), size limits (see § 660.60(h)(5)), seasons (see seasons in tables 3a (North), 3b (North), 3a (South), and 3b (South) of this subpart), gear restrictions (see paragraph (b) of this section), and closed areas (see paragraph (d) of this section and §§ 660.70 through 660.79). Unless otherwise specified, a vessel operating in the open access fishery is subject to, and must not exceed any trip limit, frequency limit, and/or size limit for the open access fishery. Retention of cowcod, yelloweye rockfish, and quillback rockfish off California is prohibited in all fisheries, and groundfish vessels must adhere to GEA restrictions (see paragraph (d)(18) of this section and § 660.70). For information on the open access daily/weekly trip limit fishery for sablefish, see § 660.332 and the trip limits in tables 3b (North) and 3b (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see paragraph (e) of this section.

* * * * *

(d) * * *

(18) Groundfish exclusion areas (GEAs). GEAs are closed areas defined by specific latitude and longitude coordinates (specified at § 660.70) where recreational and/or commercial fishing for groundfish is prohibited unless otherwise noted at § 660.70(t). It is unlawful to fish for, take and retain, possess (except for the purpose of continuous transit) or land groundfish within the GEAs unless otherwise specified at § 660.70(t). All prohibited fishing gear for targeting groundfish, as specified at § 660.70(t), must be stowed while transiting through a GEA. If fishing for non-groundfish species within a GEA, where all groundfish fishing is prohibited, then no groundfish may be on board the vessel.

* * * * *

6. Amend § 660.360 by revising paragraph (c)(3)(i)(B) to read as follows:

§ 660.360 Recreational fishery—management measures.

* * * * *

(c) * * *

(3) * * *

(i) * * *

(B) Groundfish exclusion areas (GEAs). GEAs are closed areas defined by specific latitude and longitude coordinates (specified at § 660.70) where recreational and/or commercial fishing for groundfish is prohibited unless otherwise noted at § 660.70(t). It is unlawful to fish for, take and retain, possess (except for the purpose of continuous transit) or land groundfish within the GEAs unless otherwise specified at § 660.70(t). Prohibited recreational fishing gear for targeting groundfish, as specified at § 660.70(t), may not be deployed while transiting through a GEA. If fishing for non-groundfish species within a GEA, where all groundfish fishing is prohibited, then no groundfish may be on board the vessel.

* * * * *

[FR Doc. 2025-22672 Filed 12-11-25; 8:45 am]

BILLING CODE 3510-22-P